DEPARTMENT OF COMMERCE

National Oceanic and Atmospheric Administration

Agency Information Collection Activities; Submission to the Office of Management and Budget (OMB) for Review and Approval; Comment Request; Greater Atlantic Region Logbook Family of Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 19th, 2025 during a 60-day comment period. This notice allows for an additional 30 days for public comments.

Agency: National Oceanic and Atmospheric Administration, Commerce.

Title: Greater Atlantic Region Logbook Family of Forms.

OMB Control Number: 0648-0212.

Form Number(s): 88-30.

Type of Request: Regular submission [extension of a current information collection].

Number of Respondents: 4,028.

Average Hours per Response: .083 (5 minutes).

Total Annual Burden Hours: 15,236 hours.

Needs and Uses: This is a request for an extension of an approved information collection.

The National Oceanic and Atmospheric Administration's (NOAA's) National Marine Fisheries Service's (NMFS's) Greater Atlantic Regional Fisheries Office (GARFO), under the Magnuson-Stevens Fishery Conservation and Management Act (Magnuson-Stevens Act) and the Atlantic Coastal Fisheries Cooperative Management Act (Atlantic Coastal Act), the New England Fishery Management Council (the Council), and the Atlantic States Marine Fisheries Commission (the Commission) are responsible for conservation and management of marine fishery resources off the east coast. NMFS enacts complementary regulations to Council and Commission actions.

The Magnuson-Stevens Act requires that conservation and management measures must prevent overfishing while achieving, on a continuing basis, the optimum yield from each fishery. These measures must be based on the best scientific information available. The Atlantic Coastal Act oversees coastal fishery resources that migrate, or are widely distributed, across the jurisdictional boundaries of two or more of the Atlantic States and Federal government.

The information collected using the logbook family of forms will be used by several offices of NMFS, the U.S. Coast Guard, the Councils and Commission, and state fishery agencies. The information is used to develop, implement, and monitor fishery management strategies. Logbook data serves as inputs for a variety of uses, including biological analyses and stock assessments, regulatory impact analyses, quota allocation selections and monitoring, economic profitability profiles, trade and import tariff decisions, allocation of grant funds among states, and analysis of ecological interactions among species. NMFS would be unable to fulfill the majority of its scientific research and fishery management missions without these data.

During the current review of this collection, the program office discovered that the changes published in 2018 (50 CFR part 48) pursuant to RIN 0648-BL61 were not captured in the current list of information collections. NOAA is therefore requesting a revision to accurately reflect those regulatory changes.

Regulatory changes in 2018 resulted in the elimination of the paper-based shellfish logbook, which integrated into the electronic vessel trip report (VTR) data collection program and the elimination of Tilefish interactive voice response (IVR) reporting. RIN 0648-BL61 integrated the Lobster VTR into the overall VTR information collection for all species. Additionally, the information collection “Herring” was renamed to “Daily Catch Reports” (DCR) to accurately reflect the multiple species for which a daily catch report is required.

Affected Public: Individuals, Business or other for-profit organizations.

Frequency: Per fishing trip.

Respondent's Obligation: Mandatory.

Legal Authority: Magnuson-Stevens Fishery Conservation and Management Act and the Atlantic Coastal Fisheries Cooperative Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0212.

Sheleen Dumas,
Departmental PRA Compliance Officer, Office of the Under Secretary for Economic Affairs, Commerce Department.

[FR Doc. 2025-13779 Filed 7-21-25; 8:45 am]

BILLING CODE 3510-22-P